DEPARTMENT OF LABOR

Occupational Safety and Health Administration

[Docket No. NRTL2-98]

NSF International, Expansion of Recognition

AGENCY: Occupational Safety and Health Administration (OSHA), Labor.

ACTION: Notice.

SUMMARY: This notice announces the Agency's final decision on the application of NSF International for expansion of its recognition as a Nationally Recognized Testing Laboratory under 29 CFR 1910.7.

EFFECTIVE DATE: This recognition becomes effective on April 3, 2003 and, unless modified in accordance with 29 CFR 1910.7, continues in effect while NSF remains recognized by OSHA as an NRTL.

FOR FURTHER INFORMATION CONTACT: Sherrey Nicolas, Office of Technical Programs and Coordination Activities, NRTL Program, Occupational Safety and Health Administration, U.S. Department of Labor, 200 Constitution Avenue, NW., Room N3653, Washington, DC 20210, or phone (202) 693-2110.

SUPPLEMENTARY INFORMATION:

Notice of Final Decision

The Occupational Safety and Health Administration (OSHA) hereby gives notice of the expansion of recognition of NSF International (NSF) as a Nationally Recognized Testing Laboratory (NRTL). NSF's expansion covers the use of additional test standards. OSHA's current scope of recognition for NSF may be found in the following informational web page: http://www.osha-slc.gov/dts/otpca/nrtl/nsf.html.

OSHA recognition of an NRTL signifies that the organization has met the legal requirements in Section 1910.7 of Title 29, Code of Federal Regulations (29 CFR 1910.7). Recognition is an acknowledgment that the organization can perform independent safety testing and certification of the specific products covered within its scope of recognition and is not a delegation or grant of government authority. As a result of recognition, employers may use products “properly certified” by the NRTL to meet OSHA standards that require testing and certification.

The Agency processes applications by an NRTL for initial recognition or for expansion or renewal of this recognition following requirements in Appendix A to 29 CFR 1910.7. This appendix requires that the Agency publish two notices in the Federal Register in processing an application. In the first notice, OSHA announces the application and provides its preliminary finding and, in the second notice, the Agency provides its final decision on an application. These notices set forth the NRTL's scope of recognition or modifications of this scope.

NSF submitted its application, dated June 25, 2002 (see Exhibit 10), to expand its recognition to use 12 additional test standards. The NRTL Program staff performed the on-site review (assessment) of the facility and provided a positive recommendation on the expansion in their report (see Exhibit 11). OSHA published the notice of its preliminary findings on the expansion request in the Federal Register on December 26, 2002 (67 FR 248). The notice requested submission of any public comments by January 10, 2003. OSHA did not receive any comments pertaining to the application.

The previous notice published by OSHA for NSF's recognition covered an expansion of recognition, which became effective on June 28, 2000 (65 FR 39944).

The current address of the NSF facility (site) already recognized by OSHA is: NSF International, 789 Dixboro Road, Ann Arbor, MI 48105

Final Decision and Order

The NRTL Program staff has examined the application, the assessor's report, and other pertinent information. Based upon this examination and the assessor's recommendation, OSHA finds that NSF International has met the requirements of 29 CFR 1910.7 for expansion of its recognition to include the additional test standards, subject to the limitation and conditions, listed below. Pursuant to the authority in 29 CFR 1910.7, OSHA hereby expands the recognition of NSF, subject to this limitation and these conditions.

Limitation

Expansion for Additional Standards

OSHA limits the expansion to testing and certification of products for demonstration of conformance to the following 12 test standards, and OSHA has determined the standards are “appropriate,” within the meaning of 29 CFR 1910.7(c).

UL 73 Motor-Operated Appliances

UL 399 Drinking-Water Coolers

UL 466 Electric Scales

UL 514B Fittings for Cable and Conduit

UL 514C Nonmetallic Outlet Boxes, Flush-Device Boxes and Covers

UL 514D Cover Plates for Flush-Mounted Wiring Devices

UL 541 Refrigerated Vending Machines

UL 751 Vending Machines

UL 982 Motor-Operated Household Food Preparing Machines

UL 1453 Electric Booster and Commercial Storage Tank Water Heaters

UL 1563 Electric Spas, Equipment Assemblies, and Associated Equipment

UL 1795 Hydromassage Bathtubs

A few of the test standards listed above, are approved as American National Standards by the American National Standards Institute (ANSI). However, for convenience in compiling the list, we often use the designation of the standards developing organization (e.g., UL 751) for the standard, as opposed to the ANSI designation (e.g., ANSI/UL 751). Under our procedures, an NRTL recognized for an ANSI-approved test standard may use either the latest proprietary version of the test standard or the latest ANSI version of that standard, regardless of whether it is currently recognized for the proprietary or ANSI version. Contact “NSSN” (http://www.nssn.org), an organization partially sponsored by ANSI, to find out whether or not a test standard is currently ANSI-approved.

Conditions

NSF must also abide by the following conditions of the recognition, in addition to those already required by 29 CFR 1910.7:

OSHA must be allowed access to NSF's facility and records for purposes of ascertaining continuing compliance with the terms of its recognition and to investigate as OSHA deems necessary;

If NSF has reason to doubt the efficacy of any test standard it is using under this program, it must promptly inform the test standard developing organization of this fact and provide that organization with appropriate relevant information upon which its concerns are based;

NSF must not engage in or permit others to engage in any misrepresentation of the scope or conditions of its recognition. As part of this condition, NSF agrees that it will allow no representation that it is either a recognized or an accredited Nationally Recognized Testing Laboratory (NRTL) without clearly indicating the specific equipment or material to which this recognition is tied, or that its recognition is limited to certain products;

NSF must inform OSHA as soon as possible, in writing, of any change of ownership, facilities, or key personnel, and of any major changes in its operations as an NRTL, including details;

NSF will meet all the terms of its recognition and will always comply with all OSHA policies pertaining to this recognition;

NSF will continue to meet the requirements for recognition in all areas where it has been recognized.

Signed at Washington, DC, this 20th day of March, 2003.
John L. Henshaw,
Assistant Secretary.

[FR Doc. 03-8098 Filed 4-2-03; 8:45 am]

BILLING CODE 4510-26-P